DEPARTMENT OF AGRICULTURE

Food Safety and Inspection Service

[Docket No. FSIS-2014-0007]

Codex Alimentarius Commission: Meeting of the Codex Committee on Pesticide Residues

AGENCY: Office of the Under Secretary for Food Safety, USDA.

ACTION: Notice of public meeting and request for comments.

SUMMARY: The Office of the Under Secretary for Food Safety, U.S. Department of Agriculture (USDA), Food Safety and Inspection Service (FSIS), and the U.S. Environmental Protection Agency (EPA) are sponsoring a public meeting to take place on April 10, 2014. The objective of the public meeting is to provide information and receive public comments on agenda items and draft United States positions that will be discussed at the 46th Session of the Codex Committee on Pesticide Residues (CCPR) of the Codex Alimentarius Commission (Codex), which will take place in China from May 5-10, 2014. The Under Secretary for Food Safety and the EPA recognize the importance of providing interested parties the opportunity to obtain background information on the 46th session of CCPR and to address items on the agenda.

DATES: The public meeting is scheduled for Thursday, April 10, 2014 from 10:00 a.m. to 12:00 p.m.

ADDRESSES: The public meeting will take place at the Environmental Protection Agency, One Potomac Yard South, Room S-7100, 2777 South Crystal Drive, Arlington, VA 22202.

Documents related to the 46th Session of CCPR will be accessible via the World Wide Web at the following address: http://www.codexalimentarius.org/meetings-reports/en/.

Lois Rossi, U.S. Delegate to the 46th Session of the CCPR, and the EPA and USDA, invite U.S. interested parties to submit their comments electronically to the following email address: Rossi.Lois@epa.gov.

Call-In Number

If you wish to participate in the public meeting for the 46th session of the CCPR by conference call, please use the call-in number and participant code listed below.

U.S. Call-in Number: 1-866-299-3188.

International Call-in Number: 1-706-758-1822.

Participant Code: 7033056463#.

FOR FURTHER INFORMATION CONTACT: For further information about the 46th Session of the CCPR contact: Lois Rossi, Director of the Registration Division, Office of Pesticide Programs, U.S. Environmental Protection Agency, Ariel Rios Building, 1200 Pennsylvania Avenue NW., Washington, DC 20460; Telephone: (703) 305-5447, Fax: (703) 305-6920, Email: Rossi.Lois@epa.gov.

For further information about the public meeting contact: Marie Maratos, U.S. Codex Office, South Building, Room 4861, 1400 Independence Avenue SW., Washington, DC 20250; Telephone: (202) 205-7760, Fax: (202) 720-3157, Email: Marie.Maratos@fsis.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The Codex Committee on Pesticide Residues is responsible for:

(a) Establishing maximum limits for pesticide residues in specific food items or in groups of food;

(b) Establishing maximum limits for pesticide residues in certain animal feeding stuffs moving in international trade where this is justified for reasons of protection of human health;

(c) Preparing priority lists of pesticides for evaluation by the Joint FAO/WHO Meeting on Pesticide Residues (JMPR);

(d) Considering methods of sampling and analysis for the determination of pesticide residues in food and feed;

(e) Considering other matters in relation to the safety of food and feed containing pesticide residues; and

(f) Establishing maximum limits for environmental and industrial contaminants showing chemical or other similarity to pesticides, in specific food items or groups of food.

The CCPR is hosted by China.

Issues To Be Discussed at the Public Meeting

The following items on the Agenda for the 46th Session of CCPR will be discussed during the public meeting:

• Matters Referred to the Committee by the Codex Alimentarius Commission and Other Subsidiary Bodies

• Matters of interest arising from FAO and WHO

• Matters of interest arising from other international organizations

• Draft revision to the Codex Classification of Food and Feed at Step 6-selected vegetables commodity groups (roots and tubers)

• Draft discussion paper on Guidance to Facilitate the Establishment of Maximum Residue Limits for Pesticides for Minor Uses and Specialty Crops

• The continued revision of the Risk Analysis Principles applied by the Codex Committee on Pesticide Residues

• Codex Priority List for the Establishment of MRLs for Pesticides

• Guidance on Performance Criteria for Suitability Assessment of Methods of Analysis for Pesticide Residues

• Other business and future work

Each issue listed will be fully described in documents distributed, or to be distributed, by the Codex Secretariat prior to the Committee meeting. Members of the public may access or request copies of these documents (see ADDRESSES).

Public Meeting

At the April 10, 2014, public meeting, draft U.S. positions on the agenda items will be described, discussed, and attendees will have the opportunity to pose questions and offer comments. Written comments may be offered at the meeting or sent to the U.S. Delegate for the 46th session of the CCPR, Lois Rossi (see ADDRESSES). Written comments should state that they relate to activities of the 46th Session of the CCPR.

USDA Nondiscrimination Statement

The U.S. Department of Agriculture (USDA) prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Additional Public Notification

FSIS will announce this notice online through the FSIS Web page located at http://www.fsis.usda.gov/wps/portal/fsis/topics/regulations/federal-register.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/wps/portal/fsis/programs-and-services/email-subscription-service. Options range from recalls to export information to regulations, directives and notices. Customers can add or delete subscriptions themselves, and have the option to password protect their accounts.

Done at Washington, DC on: March 18, 2014.
Mary Frances Lowe,
U.S. Manager for Codex Alimentarius.

[FR Doc. 2014-06651 Filed 3-21-14; 4:15 pm]

BILLING CODE 3410-DM-P